DEPARTMENT OF HEALTH AND HUMAN SERVICES

Centers for Disease Control and Prevention

Disease, Disability, and Injury Prevention and Control Special Emphasis Panel (SEP): Behavioral Assessments and Rapid HIV Testing Among African American Adolescents and Adults, Men Who Have Sex With Men and Other Groups at Risk for HIV Infection, Funding Opportunity Announcement (FOA) Number PS 07-001, and Rapid HIV Testing in Community Mental Health Settings Serving African Americans, FOA PS 07-005

In accordance with Section 10(a)(2) of the Federal Advisory Committee Act (Pub. L. 92-463), the Centers for Disease Control and Prevention (CDC) announces the aforementioned meeting.

Time and Date: 12:30 p.m.-4:30 p.m., May 25, 2007 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “Behavioral Assessments and Rapid HIV Testing Among African American Adolescents and Adults, Men Who Have Sex With Men and Other Groups at Risk for HIV Infection,” FOA Number PS 07-001, and “Rapid HIV Testing in Community Mental Health Settings Serving African Americans,” FOA PS 07-005.

Contact Person For More Information: J. Felix Rogers, Ph.D., M.P.H., Scientific Review Administrator, Extramural Research Program Office, Centers for Disease Control and Prevention, 1600 Clifton Road, NE, MS E05, Atlanta, GA 30333, telephone 404.639.6101.

The Director, Management Analysis and Services Office, has been delegated the authority to sign Federal Register notices pertaining to announcements of meetings and other committee management activities, for both CDC and the Agency for Toxic Substances and Disease Registry.

Dated: April 27, 2007.
Elaine L. Baker,
Acting Director, Management Analysis and Services Office Centers for Disease Control and Prevention.

[FR Doc. E7-8617 Filed 5-3-07; 8:45 am]

BILLING CODE 4163-18-P